DEPARTMENT OF COMMERCE

International Trade Administration

Antidumping or Countervailing Duty Order, Finding, or Suspended Investigation; Advance Notification of Sunset Review

AGENCY: Enforcement and Compliance, International Trade Administration, Department of Commerce.

Background

Every five years, pursuant to the Tariff Act of 1930, as amended (the Act), the Department of Commerce (Commerce) and the International Trade Commission automatically initiate and conduct reviews to determine whether revocation of a countervailing or antidumping duty order or termination of an investigation suspended under section 704 or 734 of the Act would be likely to lead to continuation or recurrence of dumping or a countervailable subsidy (as the case may be) and of material injury.

Upcoming Sunset Reviews for June 2021

Pursuant to section 751(c) of the Act, the following Sunset Reviews are scheduled for initiation in June 2021 and will appear in that month's Notice of Initiation of Five-Year Sunset Reviews (Sunset Review).

| Department contact
Antidumping Duty Proceedings
Cold-Rolled Steel Flat Products from Brazil, A-351-843 (1st Review) | Thomas Martin, (202) 482-3936.
Cold-Rolled Steel Flat Products from China, A-570-029 (1st Review) | Thomas Martin, (202) 482-3936.
Tissue Paper Products from China, A-570-894 (3rd Review) | Mary Kolberg, (202) 482-1785.
Magnesium Metal from China, A-570-896 (3rd Review) | Mary Kolberg, (202) 482-1785.
Corrosion-Resistant Steel Products from China, A-570-026 (1st Review) | Mary Kolberg, (202) 482-1785.
Cold-Rolled Steel Flat Products from India, A-533-865 (1st Review) | Thomas Martin, (202) 482-3936.
Corrosion-Resistant Steel Products from India, A-533-863 (1st Review) | Mary Kolberg, (202) 482-1785.
Corrosion-Resistant Steel Products from Italy, A-475-832 (1st Review) | Mary Kolberg, (202) 482-1785.
Cold-Rolled Steel Flat Products from Japan, A-588-873 (1st Review) | Thomas Martin, (202) 482-3936.
Cold-Rolled Steel Flat Products from Republic of Korea, A-580-881 (1st Review) | Thomas Martin, (202) 482-3936.
Corrosion-Resistant Steel Products from Republic of Korea, A-580-878 (1st Review) | Mary Kolberg, (202) 482-1785.
Corrosion-Resistant Steel Products from Taiwan, A-583-856 (1st Review) | Mary Kolberg, (202) 482-1785.
Cold-Rolled Steel Flat Products from United Kingdom, A-412-824 (1st Review) | Thomas Martin, (202) 482-3936.
Countervailing Duty Proceedings
Cold-Rolled Steel Flat Products from Brazil, C-351-844 (1st Review) | Mary Kolberg, (202) 482-1785.
Corrosion-Resistant Steel Products from China, C-570-027 (1st Review) | Jacqueline Arrowsmith, (202) 482-5255.
Cold-Rolled Steel Flat Products from China, C-570-030 (1st Review) | Jacqueline Arrowsmith, (202) 482-5255.
Cold-Rolled Steel Flat Products from India, C-533-866 (1st Review) | Thomas Martin, (202) 482-3935.
Corrosion-Resistant Steel Products from India, C-533-864 (1st Review) | Thomas Martin, (202) 482-3936.
Corrosion-Resistant Steel Products from Italy, C-475-833 (1st Review) | Thomas Martin, (202) 482-3936.
Cold-Rolled Steel Flat Products from Republic of Korea, C-580-882 (1st Review) | Jacqueline Arrowsmith, (202) 482-5255.
Corrosion-Resistant Steel Products from Republic of Korea, C-580-879 (1st Review) | Mary Kolberg, (202) 482-1785.

Suspended Investigations

No Sunset Review of suspended investigations is scheduled for initiation in June 2021.

Commerce's procedures for the conduct of a Sunset Review are set forth in 19 CFR 351.218. The Notice of Initiation of Five-Year (Sunset) Review provides further information regarding what is required of all parties to participate in a Sunset Review.

Pursuant to 19 CFR 351.103(c), Commerce will maintain and make available a service list for these proceedings. To facilitate the timely preparation of the service list(s), it is requested that those seeking recognition as interested parties to a proceeding contact Commerce in writing within 10 days of the publication of the Notice of Initiation.

Please note that if Commerce receives a Notice of Intent to Participate from a member of the domestic industry within 15 days of the date of initiation, the review will continue.

Thereafter, any interested party wishing to participate in the Sunset Review must provide substantive comments in response to the notice of initiation no later than 30 days after the date of initiation. Note that Commerce has modified certain of its requirements for serving documents containing business proprietary information, until further notice.¹

¹ See Temporary Rule Modifying AD/CVD Service Requirements Due to COVID-19; Extension of Effective Period, 85 FR 41363 (July 10, 2020).

This notice is not required by statute but is published as a service to the international trading community.

Dated: April 9, 2021.
James Maeder,
Deputy Assistant Secretary for Antidumping and Countervailing Duty Operations.

[FR Doc. 2021-09231 Filed 4-30-21; 8:45 am]

BILLING CODE 3510-DS-P